DEPARTMENT OF THE INTERIOR

Bureau of Indian Affairs

Submission of Information Collection to the Office of Management and Budget for Review Under the Paperwork Reduction Act

AGENCY: Bureau of Indian Affairs, Interior.

ACTION: Notice of request for renewal.

SUMMARY: In compliance with the Paperwork Reduction Act, this notice announces that the Bureau of Indian Affairs is submitting an information collection to the Office of Management and Budget (OMB) for renewal. The collection concerns the Student Transportation Form. We are requesting a renewal of clearance and requesting comments on this information collection.

DATES: Written comments must be submitted on or before February 24, 2006.

ADDRESSES: You may submit comments on the information collection to the Desk Officer for Department of the Interior at the Office of Management and Budget, by facsimile to (202) 395-6566 or you may send an e-mail to OIRA_DOCKET@omb.eop.gov.

Please send copies of comments to the Office of Indian Education Programs, 1849 C Street, NW., Mail Stop 3609-MIB, Washington, DC 20240.

FOR FURTHER INFORMATION CONTACT: Glenn Allison, (202) 208-3628 or Keith Neves, (202) 208-3601.

SUPPLEMENTARY INFORMATION:

I. Abstract

The Student Transportation regulations in 25 CFR part 39, subpart G, contain the program eligibility and criteria, which govern the allocation of transportation funds. Information collected from the schools will be used to determine the rate per mile. The information collection is needed to provide transportation mileage for Bureau-funded schools, which will receive an allocation of transportation funds.

II. Request for Comments

A 60-day notice requesting comments was published on July 11, 2005 (70 FR 39787). There were no comments received regarding that notice. You are invited to comment on the following items to the Desk Officer at OMB at the citation in ADDRESSES section:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

We will not request nor sponsor a collection of information, and you need not respond to such a request, if there is no valid Office of Management and Budget Control Number.

III. Data

Title: Student Transportation Form, 25 CFR Part 39, Subpart G.

OMB Control Number: 1076-0134.

Type of review: Renewal.

Brief Description of collection: This collection provides pertinent data concerning the schools' bus transportation mileage and related long distance travel mileage to determine funding for school transportation.

Respondents: Contract and Grant Schools; Bureau operated schools. About 121 tribal school administrators annually gather the necessary information during student count week.

Number of Respondents: 121.

Estimated Time per Response: At an average of 6 hours each 121 reporting schools = 796 hours.

Frequency of Response: Annually.

Total Annual Burden to Respondents: 726 hours.

Dated: January 18, 2006.
Michael D. Olsen,
Acting Principal Deputy Assistant Secretary—Indian Affairs.

[FR Doc. E6-847 Filed 1-24-06; 8:45 am]

BILLING CODE 4310-6W-P